DEPARTMENT OF ENERGY

Federal Energy Regulatory Commission

[Docket No. CP23-536-000]

Eastern Shore Natural Gas Company; Notice of Schedule for the Preparation of an Environmental Assessment for the Worcester Resiliency Upgrade Project

On August 31, 2023, Eastern Shore Natural Gas Company (Eastern Shore), filed an application in Docket No. CP23-536-000 requesting a Certificate of Public Convenience and Necessity pursuant to section 7(c) of the Natural Gas Act to construct and operate certain natural gas pipeline facilities in Delaware and Maryland. The proposed project is known as the Worcester Resiliency Upgrade Project (Project), and would store approximately 475,000 gallons of liquified natural gas, equivalent to 39,627 Dekatherms, and provide 14,000 Dekatherms per day of corresponding peak firm natural gas transportation service, as well as enhance the resiliency of Eastern Shore's system.

On September 15, 2023, the Federal Energy Regulatory Commission (Commission or FERC) issued its Notice of Application for the Project. Among other things, that notice alerted agencies issuing Federal authorizations of the requirement to complete all necessary reviews and to reach a final decision on a request for a Federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—April 26, 2024

90-day Federal Authorization Decision Deadline ²—July 25, 2024

² The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

If a schedule change becomes necessary, additional notice will be provided so that the relevant agencies are kept informed of the Project's progress.

Project Description

Specifically, the proposed Project includes construction and operation of five new facilities and upgrades to four existing facilities including:

• Bishopville Facility, Worcester County, Maryland: construct a 10.56-acre liquified natural gas storage and vaporization facility situated within a rural 135-acre parcel that includes five 100,000 gallon horizontal storage tanks;

• Bishopville Tie-in, Worcester County, Maryland: construct 0.43 mile of 8-inch-diameter pipeline to connect the Bishopville Facility to Eastern Shore's existing Milford pipeline;

• Millsboro Controller Upgrade, Sussex County, Delaware: upgrade an existing station to install two new control valve runs to provide pressure and directional control;

• Millsboro Tie-in, Sussex County, Delaware: construct 0.35 mile of 10-inch-diameter pipeline extension to connect the upgraded Millsboro Controller to the Eastern Shore's existing Milford pipeline;

• Berlin Meter and Regulating Station Upgrade, Worcester County, Maryland: replace approximately 350 feet of existing belowground 3-inch tie-in with a new 4-inch tie-in;

• Thompson Meter and Regulating Station Upgrade, Somerset County, Maryland: replace existing station meters;

• Selbyville Meter and Regulating Station Upgrade, Sussex County, Delaware: replace existing meter and regulator facilities;

• Delmar Receiver, Wicomico County, Maryland: install new aboveground Rupture Mitigation Valve and In-line Inspection Receiver and an access road located at the new connection between the Delmar Loop and the Parkesburg Line at the southern end of the Delmar Loop collocated east of U.S. Route 13; and

• Delmar Loop, Wicomico County, Maryland and Sussex County, Delaware: construct 1.14 miles of 10-inch-diameter looping natural gas pipeline collocated with an existing Eastern Shore pipeline and U.S. Route 13.

Background

On October 11, 2023, the Commission issued a Notice of Scoping Period Requesting Comments on Environmental Issues for the Proposed Worcester Resiliency Upgrade Project (Notice of Scoping), and on November 22, 2023, the Commission issued a Notice of Public Scoping Session. Both the Notice of Scoping and the Notice of Public Scoping Session were sent to affected landowners; Federal, State, and local government agencies; elected officials; environmental and public interest groups; Native American tribes; other interested parties; and local libraries and newspapers. In response to the Notice of Scoping, the Commission received comments from State Delegate Wayne Hartman, Commissioner Chip Bertino, Senator Mary Beth Carozzi, and Director of Worcester County Department of Environmental Programs, Robert Mitchell. As stated in the Notice of Public Scoping Session, Commission staff held a public meeting for the Project on December 13, 2023. Comments were in support of the proposed Project, with no environmental concerns raised by the commenters. All substantive comments will be addressed in the EA.

There are currently no cooperating agencies in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP23-536), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Debbie-Anne A. Reese,
Deputy Secretary.

[FR Doc. 2023-28754 Filed 12-28-23; 8:45 am]

BILLING CODE 6717-01-P